COMMISSION ON CIVIL RIGHTS

Agenda and Notice of Public Meeting of the New Jersey Advisory Committee

AGENCY: Commission on Civil Rights.

ACTION: Announcement of bi-monthly planning meeting.

SUMMARY: Notice is hereby given, pursuant to the provisions of the rules and regulations of the U.S. Commission on Civil Rights (Commission), and the Federal Advisory Committee Act (FACA) that a briefing meeting of the New Jersey Advisory Committee to the Commission will convene by conference call and video conference at 11:30 a.m. (EDT) on Friday, September 21, 2018. The purpose of the meeting is to hear a presentation from a subject matter expert on a Fair Housing Act project concept that advisory committee members are considering as the topic for its civil rights project. Following the presentation, the Chair will announce the selection of the Committee Vice Chair and the members will discuss next steps for selecting the topic for its civil rights project.

DATES: Friday, September 21, 2018, at 11:30 a.m. (EDT).

Public Call-In Information: Conference call number: 1-888-778-9069 and conference call ID: 6970676.

Readytalk Video Conference Information: Joining the meeting using audio and visual is a two-step process: For audio, dial: 1-888-778-9069; ID: 6970676. For video: Go to this link to register and join the meeting: https://cc.readytalk.com/r/28wsjsjq0j3c&eomhttps://cc.readytalk.com/r/28wsjsjq0j3c&eom.

Note: Although video conference is available, it is not required in order to listen to the conference call via audio.

If you have difficulty with the video link, try a browser other than Explorer or contact ReadyTalk Technical Support at: 1-800-843-9166. Note: Upon receipt of your registration confirmation email, you will receive a link to test your computer before the meeting, it would be advisable to do so.

FOR FURTHER INFORMATION CONTACT: Ivy L. Davis, DFO, at ero@usccr.gov or by phone at 202-376-7533.

SUPPLEMENTARY INFORMATION: Interested members of the public may listen to the discussion by calling the following toll-free conference call number: 1-888-778-9069 and conference call ID: 6970676; video conference link: https://cc.readytalk.com/r/28wsjsjq0j3c&eomhttps://cc.readytalk.com/r/28wsjsjq0j3c&eom.

Please be advised that, before being placed into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number provided.

Persons with hearing impairments may also follow the discussion by first calling the Federal Relay Service at 1-800-877-8339 and providing the operator with the toll-free conference call number: 1-888-778-9069 and conference call 6970676.

Members of the public are invited to submit written comments; the comments must be received in the regional office approximately 30 days after each scheduled meeting. Written comments may be mailed to the Eastern Regional Office, U.S. Commission on Civil Rights, 1331 Pennsylvania Ave. NW, Suite 1150, Washington, DC 20425, or emailed to Evelyn Bohor at ero@usccr.gov. Persons who desire additional information may contact the Eastern Regional Office at (202) 376-7533.

Records and documents discussed during the meeting will be available for public viewing as they become available at https://facadatabase.gov/committee/meetings.aspx?cid=263; click the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

I. Roll Call

II. Fair Housing Act Presentation

III. Planning Meeting

IV. Other Business

V. Adjournment

Dated: September 5, 2018.
David Mussatt,
Supervisory Chief, Regional Programs Unit.

[FR Doc. 2018-19585 Filed 9-7-18; 8:45 am]

BILLING CODE P